DEPARTMENT OF HEALTH AND HUMAN SERVICES

Substance Abuse and Mental Health Services Administration

Fiscal Year (FY) 2003 and Fiscal Year (FY) 2004 Funding Opportunity

AGENCY: Substance Abuse and Mental Health Services Administration, HHS.

ACTION: Notice of funding availability for SAMHSA Cooperative Agreements for the Comprehensive Community Mental Health Services Program for Children and their Families.

SUMMARY: The Substance Abuse and Mental Health Services Administration (SAMHSA), Center for Mental Health Services (CMHS) announces the availability of FY 2003 and FY 2004 funds for the cooperative agreement described below. A synopsis of this funding opportunity, as well as many other Federal government funding opportunities, is also available at the Internet site: www.fedgrants.gov.

This notice is not a complete description of the program; potential applicants must obtain a copy of the Request for Applications (RFA), including part I, Cooperative Agreements for the Comprehensive Community Mental Health Services Program for Children and their Families, part II, General Policies and Procedures Applicable to all SAMHSA Applications for Discretionary Grants and Cooperative Agreements, and the PHS 5161-1 (Rev. 7/00) application form before preparing and submitting an application.

Funding Opportunity Title: Cooperative Agreements for the Comprehensive Community Mental Health Services Program for Children and their Families—Short Title: Child Mental Health Initiative.

Funding Opportunity Number: SM 03-009.

Catalog of Federal Domestic Assistance (CFDA) Number: 93.243.

Authority: Section: part E of title V section 561 et seq. of the Public Health Service Act, as amended and subject to the availability of funds.

Funding Opportunity Description: The Substance Abuse and Mental Health Services Administration (SAMHSA), Center for Mental Health Services is accepting applications for Fiscal Year 2003 and Fiscal Year 2004 for cooperative agreements to develop systems of care that deliver effective comprehensive community mental health services for a target population of children and adolescents with serious emotional disturbance and their families. Funds will be awarded to develop community service systems for the target population, and also to fund a broad array of services delivered through those service systems. In addition, awardees will participate in a national multi-site evaluation, conducted through a separate contract, and will be encouraged to develop the capacity for continuous evaluation of their systems of care.

Eligible Applicants: Eligibility for this program is statutorily limited to public entities such as: State governments; Indian tribes or tribal organizations (as defined in section 4(b) and section 4(c) of the Indian Self-Determination and Education Assistance Act); governmental units within political subdivisions of a State such as a county, city, or town; the District of Columbia government; and the government of the territories of Guam, Commonwealth of Puerto Rico, Northern Mariana Islands, Virgin Islands, American Samoa, and Trust Territory of the Pacific Islands (now Palau, Micronesia, and the Marshall Islands). Additional eligibility requirements are listed in the full announcement.

Due Date for Applications: August 5, 2003, for FY 2003; October 15, 2003, for FY 2004.

Estimated Funding Available/Number of Awards: It is expected that approximately $5 million will be available for about 5 awards in FY 2003 and $5 million for about 5 awards in FY 2004. The maximum amount available in total direct and indirect costs for each year of the award will be as follows:

Year 1: $1 million

Year 2: $1.5 million

Year 3: $2.5 million

Year 4: $2 million

Year 5: $1.5 million

Year 6: $1 million

Actual funding levels will depend on the availability of funds. Applications with proposed budgets that exceed the maximum allowed in any year will be returned without review.

Is Cost Sharing Required: Yes. By statutory mandate, this program requires that the applicant entity will provide, directly or through donations from public or private entities, non-Federal contributions:

• For the first, second and third fiscal years of the cooperative agreement, the awardee must provide at least $1 for each $3 of Federal funds;

• For the fourth fiscal year, the awardee must provide at least $1 for each $1 of Federal funds; and

• For the fifth and sixth fiscal year, the awardee must provide at least $2 for each $1 of Federal funds.

Matching resources may be in cash or in-kind, including facilities, equipment, or services, and must be derived from non-Federal sources (e.g., State or sub-State non-Federal revenues, foundation grants). Additional cost sharing information is provided in the full announcement.

Period of Support: Up to 6 years, with annual continuations depending on availability of funds and progress achieved.

How to Get Full Announcement and Application Materials: Complete application kits may be obtained from the National Mental Health Information Center, PO Box 42557, Washington, DC 20015, 800-789-2647. The PHS 5161-1 application form and the full text of the funding announcement are also available electronically via SAMHSA's World Wide Web home page: http://www.samhsa.gov (click on ‘Grant Opportunities’).

When requesting an application kit, the applicant must specify the funding opportunity title and number for which detailed information is desired. All information necessary to apply, including where to submit applications and application deadline instructions, are included in the application kit.

Contact for Additional Information: Rolando L. Santiago, Ph.D., or Diane Sondheimer, M.S., M.P.H., Substance Abuse and Mental Health Services Administration, Center for Mental Health Services, Child, Adolescent, and Family Branch, 5600 Fishers Lane, Room 11C-16, Rockville, MD 20857, (301) 443-1333, E-mail: rsantiag@samsha.gov or dsondhei@samhsa.gov.

Dated: May 27, 2003.
Richard Kopanda,
Executive Officer, Substance Abuse and Mental Health Services Administration.

[FR Doc. 03-13759 Filed 6-2-03; 8:45 am]

BILLING CODE 4162-20-P